DEPARTMENT OF TRANSPORTATION

Federal Aviation Administration

Receipt of Noise Compatibility Program and Request for Review; Gulfport-Biloxi International Airport, Gulfport, MS

AGENCY: Federal Aviation Administration, DOT.

ACTION: Notice.

SUMMARY: The Federal Aviation Administration (FAA) announces that it is reviewing a proposed amendment to the Noise Compatibility Program that was submitted for Gulfport Biloxi International Airport under the provisions of 49 U.S.C. 47504 et seq. (the Aviation Safety and Noise Abatement Act hereinafter referred to as “the Act”) and 14 CFR Part 150 by the Gulfport Biloxi Regional Airport Authority. This program was submitted subsequent to a determination by FAA that the associated Noise Exposure Maps submitted under 14 CFR Part 150 for Gulfport Biloxi International Airport were in compliance with applicable requirements effective February 26, 2004, and was published in the Federal Register on March 5, 2004. The proposed amendment to the Noise Compatibility Program will be approved or disapproved on or before April 16, 2009.

DATES: Effective Date: The effective date of the start of FAA's review of the amendment to the noise compatibility program is October 16, 2008. The public comment period ends December 16, 2008.

FOR FURTHER INFORMATION CONTACT: William Schuller, Federal Aviation Administration, Jackson Airports District Office, 100 West Cross Street, Jackson, Mississippi 39208, 601 664-9883. Comments on the proposed amendment to the noise compatibility program should also be submitted to the above office.

SUPPLEMENTARY INFORMATION: This notice announces that the FAA is reviewing a proposed amendment to the Noise Compatibility Program for Gulfport Biloxi International Airport which will be approved or disapproved on or before April 16, 2009. This notice also announces the availability of this amendment for public review and comment.

An airport operator who has submitted Noise Exposure Maps that are found by FAA to be in compliance with the requirements of Federal Aviation Regulations (FAR) Part 150, promulgated pursuant to the Act, may submit a Noise Compatibility Program for FAA approval which sets forth the measures the operator has taken or proposes to reduce existing non-compatible uses and prevent the introduction of additional non-compatible uses.

The FAA previously approved the Noise Compatibility Program for Gulfport Biloxi International Airport. The FAA has formally received the amendment to the Noise Compatibility Program for Gulfport Biloxi International Airport, effective on October 16, 2008. The airport operator has requested that the FAA review this material and that the amended noise mitigation measures, to be implemented jointly by the airport and surrounding communities, be approved as an amendment to the Noise Compatibility Program under section 47504 of the Act. Preliminary review of the submitted material indicates that the amendment conforms to the requirements for the submittal of Noise Compatibility Programs, but that further review will be necessary prior to approval or disapproval of the program. The formal review period, limited by law to a maximum of 180 days, will be completed on or before April 16, 2009.

The FAA's detailed evaluation will be conducted under the provisions of 14 CFR Part 150, section 150.33. The primary considerations in the evaluation process are whether the proposed measures may reduce the level of aviation safety or create an undue burden on interstate or foreign commerce, and whether they are reasonably consistent with obtaining the goal of reducing existing non-compatible land uses and preventing the introduction of additional non-compatible land uses.

Interested persons are invited to comment on the proposed program with specific reference to these factors. All comments relating to these factors, other than those properly addressed to local land use authorities, will be considered by the FAA to the extent practicable. Copies of the Noise Exposure Maps, the FAA's evaluation of the maps, and the proposed amendment to the Noise Compatibility Program are available for examination at the following location: Federal Aviation Administration, Jackson Airports District Office, 100 West Cross Street, Suite B, Jackson, Mississippi 39208.

Questions may be directed to the individual named above under the heading, FOR FURTHER INFORMATION CONTACT.

Issued in Jackson, Mississippi on October 16, 2008.
Rans Black,
Manager, Jackson Airports District Office.

[FR Doc. E8-25229 Filed 10-23-08; 8:45 am]

BILLING CODE 4910-13-M